ENVIRONMENTAL PROTECTION AGENCY

[FRL-10094-O1-OW]

Notice of Public Webinar of the Environmental Financial Advisory Board (EFAB) via Teleconference

AGENCY: Environmental Protection Agency (EPA).

ACTION: Notice of public webinar.

SUMMARY: The Environmental Protection Agency (EPA)'s Environmental Financial Advisory Board (EFAB) will hold a public webinar for the third installment of a Pollution Prevention Finance Forum to support the EFAB Pollution Prevention workgroup and its charge (https://www.epa.gov/waterfinancecenter/efab#meeting). Due to interest from the full Board, this webinar is being opened to the public.

DATES: The webinar will be held on August 23, 2022, from 12 p.m. to 1:30 p.m. (Eastern Time).

ADDRESSES: The webinar will be conducted via teleconference only and is open to the public. Interested persons must register in advance at the weblink below to access the webinar.

FOR FURTHER INFORMATION CONTACT: Any member of the public who wants information about the webinar may contact Tara Johnson via telephone/voicemail at (202) 564-6186 or email to efab@epa.gov. General information concerning the EFAB is available at https://www.epa.gov/waterfinancecenter/efab.

SUPPLEMENTARY INFORMATION:

Background: The EFAB is an EPA advisory committee chartered under the Federal Advisory Committee Act (FACA), 5 U.S.C. App. 2, to provide advice and recommendations to EPA on innovative approaches to funding environmental programs, projects, and activities. Administrative support for the EFAB is provided by the Water Infrastructure and Resiliency Finance Center within EPA's Office of Water. Pursuant to FACA and EPA policy, notice is hereby given that the EFAB will hold a public webinar for the following purpose:

The Pollution Prevention Finance Forum is a series of webinars that explore opportunities and challenges in financing sustainability, with an initial focus on advancing opportunities for small and medium-sized manufacturing businesses. The purpose of the third Forum webinar is to assess partnership models and explore potential partnership opportunities and distribution networks for pollution prevention (P2) projects. P2, also known as source reduction, is any practice that reduces, eliminates, or prevents pollution at its source prior to recycling, treatment, or disposal. More information can be found at https://www.epa.gov/p2.

The webinar is open to the public, but no oral public comments will be accepted during the webinar. Written public comments relating to the Forum and the EFAB's Pollution Prevention workgroup should be provided in accordance with the instructions below on written statements.

Registration for the Meeting: Register for the webinar at https://www.zoomgov.com/webinar/register/WN_mzc_c2tRR06o-cBHZNS8Jg.

Availability of Meeting Materials: Webinar materials (including an agenda and background materials) will be available on EPA's website at https://www.epa.gov/waterfinancecenter/efab#meeting.

Procedures for Providing Public Input: Public comment for consideration by EPA's federal advisory committees has a different purpose from public comment provided to EPA program offices. Therefore, the process for submitting comments to a federal advisory committee is different from the process used to submit comments to an EPA program office. Federal advisory committees provide independent advice to EPA. Members of the public can submit comments on matters being considered by the EFAB for consideration by members as they develop their advice and recommendations to EPA.

Written Statements: Written statements and questions should be received by August 18, 2022, so that the information can be made available to the EFAB for its consideration. Written statements and questions should be sent via email to efab@epa.gov. Members of the public should be aware that their personal contact information, if included in any written comments, may be posted to the EFAB website. Copyrighted material will not be posted without explicit permission of the copyright holder.

Accessibility: For information on access or services for individuals with disabilities or to request accommodations for a disability, please register for the webinar and list any special requirements or accommodations needed on the registration form at least 10 business days prior to the meeting to allow as much time as possible to process your request.

Dated: July 28, 2022.
Andrew D. Sawyers,
Director, Office of Wastewater Management, Office of Water.

[FR Doc. 2022-16804 Filed 8-4-22; 8:45 am]

BILLING CODE 6560-50-P